DEPARTMENT OF HEALTH AND HUMAN SERVICES

Food and Drug Administration

[FDA 225-04-4005]

Memorandum of Understanding Between the State of Illinois, Emergency Management Agency, Bureau of Radiation Safety and the Food and Drug Administration, Center for Devices and Radiological Health

AGENCY: Food and Drug Administration, HHS.

ACTION: Notice.

SUMMARY: The Food and Drug Administration (FDA) is providing notice of a memorandum of understanding (MOU) between the State of Illinois, Emergency Management Agency, Bureau of Radiation Safety and the Food and Drug Administration, Center for Devices and Radiological Health. The purpose of this MOU is to authorize the State of Illinois, through the Illinois Emergency Management Agency, to continue to conduct a State as certifiers program in Illinois under the Mammography Quality Standards Act as amended by the Mammography Quality Standards Reauthorization Act of 1998.

DATES: The agreement became effective August 18, 2004.

FOR FURTHER INFORMATION CONTACT: Joanne Choy, Division of Mammography Quality and Radiation Programs (HFZ-240), 1350 Piccard Dr., Rockville, MD 20850, 301-827-2903, or e-mail: jkc@cdrh.fda.gov.

SUPPLEMENTARY INFORMATION: In accordance with 21 CFR 20.108(c), which states that all written agreements and MOUs between FDA and others shall be published in the Federal Register, the agency is publishing notice of the MOU.

Dated: September 30, 2004.
Jeffrey Shuren,
Assistant Commissioner for Policy.

BILLING CODE 4160-01-S

[FR Doc. 04-22577 Filed 10-6-04; 8:45 am]

BILLING CODE 4160-01-C